DEPARTMENT OF COMMERCE

International Trade Administration

[A-570-894]

Certain Tissue Paper Products From the People's Republic of China: Final Results of Expedited Sunset Review of the Antidumping Duty Order

AGENCY: Enforcement and Compliance, International Trade Administration, Department of Commerce.

SUMMARY: The Department of Commerce (Commerce) finds that revocation of the antidumping duty (AD) order on certain tissue paper products (tissue paper) from the People's Republic of China (China) would be likely to lead to a continuation or recurrence of dumping, at the levels indicated in the “Final Results of Sunset Review” section of this notice.

DATES: Applicable September 21, 2021.

FOR FURTHER INFORMATION CONTACT: Brian Smith, AD/CVD Operations, Office VIII, Enforcement and Compliance, International Trade Administration, U.S. Department of Commerce, 1401 Constitution Avenue NW, Washington, DC 20230; telephone: (202) 482-1766.

SUPPLEMENTARY INFORMATION:

Background

On March 30, 2005, Commerce published the antidumping duty order on tissue paper from China.¹ On June 1, 2021, Commerce published the initiation of the third sunset review of the Order on tissue paper from China, pursuant to section 751(c) of the Tariff Act of 1930, as amended (the Act).² On June 11, 2021, Commerce received a timely and complete notice of intent to participate in this sunset review from Seaman Paper Company of Massachusetts, Inc. (Seaman Paper), within the deadline specified in 19 CFR 351.218(d)(1)(i).³ Seaman Paper claimed interested party status within the meaning of section 771(9)(C) of the Act as a U.S. producer of the domestic like product.⁴

¹ See Notice of Amended Final Determination of Sales at Less Than Fair Value and Antidumping Duty Order: Certain Tissue Paper Products from the People's Republic of China, 70 FR 16223 (March 30, 2005) (Order).

² See Initiation of Five-Year (“Sunset”) Reviews, 86 FR 29239 (June 1, 2021).

³ See Domestic Interested Party's Letter, “Certain Tissue Paper Products from the People's Republic of China: Notice of Intent to Participate,” dated June 11, 2021.

⁴ Id.

On July 1, 2021, Seaman Paper filed a timely and adequate substantive response, within the deadline specified in 19 CFR 351.218(d)(3)(i).⁵ Commerce did not receive a substantive response from any respondent interested party. As a result, pursuant to section 751(c)(3)(B) of the Act and 19 CFR 351.218(e)(1)(ii)(C)(2), Commerce conducted an expedited (120-day) sunset review of the Order.

⁵ See Domestic Interested Party's Letter, “Certain Tissue Paper Products from the People's Republic of China: Substantive Response to Notice of Initiation,” dated July 1, 2021.

Scope of the Order

The merchandise covered by the Order is certain tissue paper products from China. The subject merchandise may be under one or more of several different subheadings of the Harmonized Tariff Schedule of the United States (HTSUS), including: 4802.30, 4802.54, 4802.61, 4802.62, 4802.69, 4804.31.1000, 4804.31.2000, 4804.31.4020, 4804.31.4040, 4804.31.6000, 4804.39, 4805.91.1090, 4805.91.5000, 4805.91.7000, 4806.40, 4808.30, 4808.90, 4811.90, 4823.90, 4802.50.00, 4802.90.00, 4805.91.90, 9505.90.40. Although HTSUS subheadings are provided for convenience and customs purposes, the written description of the scope is dispositive.⁶ A full description of the scope of the Order is contained in the accompanying Issues and Decision Memorandum.⁷

⁶ On January 30, 2007, at the direction of CBP, the Department added the following HTSUS classifications to the AD/CVD module for tissue paper: 4802.54.3100, 4802.54.6100, and 4823.90.6700. However, we note that the six- digit classifications for these numbers were already listed in the scope.

⁷ See Memorandum, “Issues and Decision Memorandum for the Final Results of the Expedited Sunset Review of the Antidumping Duty Order on Certain Tissue Paper Products from the People's Republic of China,” dated concurrently with, and hereby adopted by, this notice (Issues and Decision Memorandum).

Analysis of Comments Received

A complete discussion of all issues raised in this sunset review, including the likelihood of continuation or recurrence of dumping in the event of revocation of the Order and the magnitude of the margin likely to prevail if the Order was to be revoked, is provided in the Issues and Decision Memorandum. A list of the topics discussed in the Issues and Decision Memorandum is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://enforcement.trade.gov/frn/.

Final Results of Sunset Review

Pursuant to sections 751(c)(1) and 752(c)(1) and (3) of the Act, Commerce determines that revocation of the Order on tissue paper from China would be likely to lead to continuation or recurrence of dumping, and that the magnitude of the dumping margin likely to prevail would be a weighted-average margin of 112.64 percent.

Notification Regarding Administrative Protective Order

This notice serves as the only reminder to parties subject to administrative protective order (APO) of their responsibility concerning the return or destruction of proprietary information disclosed under APO in accordance with 19 CFR 351.305. Timely notification of the return or destruction of APO materials, or conversion to judicial protective orders, is hereby requested. Failure to comply with the regulations and terms of an APO is a violation which is subject to sanction.

Notification to Interested Parties

We are issuing and publishing these final results and notice in accordance with sections 751(c), 752(c), and 777(i)(1) of the Act, and 19 CFR 351.218 and 19 CFR 351.221(c)(5)(ii).

Dated: September 10, 2021.
Christian Marsh,
Acting Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Dumping Margin Likely to Prevail

VII. Final Results of Sunset Review

VIII. Recommendation

[FR Doc. 2021-20398 Filed 9-20-21; 8:45 am]

BILLING CODE 3510-DS-P